FEDERAL COMMUNICATIONS COMMISSION

47 CFR Part 73

[DA 03-428; MB Docket No. 03-42, RM-10648; MB Docket No. 03-43, RM-10649; Docket No. 03-44, RM-10650]

Radio Broadcasting Services; Daisy, AR, Rattan, OK, and Water Mill, NY

AGENCY: Federal Communications Commission.

ACTION: Proposed rule.

SUMMARY: This document proposes three allotments in Daisy, Arkansas, Rattan, Oklahoma, and Water Mill, New York. The Commission requests comment on a petition filed by Gray Media Corporation proposing the allotment of Channel 293C3 at Daisy, Arkansas, as the community's first local service. Channel 293C3 can be allotted to Daisy in compliance with the Commission's minimum distance separation requirements with a site restriction of 21.1 km (13.1 miles) northwest of Daisy. The coordinates for Channel 293C3 at Daisy are 34-21-49 North Latitude and 93-54-48 West Longitude. See SUPPLEMENTARY INFORMATION infra.

DATES: Comments must be filed on or before April 11, 2003, and reply comments on or before April 28, 2003.

ADDRESSES: Federal Communications Commission, Washington, DC 20554. In addition to filing comments with the FCC, interested parties should serve the petitioner as follows: Scott A. Gray, President, Gray Media Corporation, Post Office Box 491, Bryant, Arkansas 72089; and Isabel Sepulveda, President, Isabel Sepulveda, Inc., 9 Lake Side Drive, Southampton, New York 11968.

FOR FURTHER INFORMATION CONTACT: Deborah A. Dupont, Media Bureau (202) 418-7072.

SUPPLEMENTARY INFORMATION: This is a synopsis of the Commission's Notice of Proposed Rule Making, MB Docket Nos. 03-42, 03-43, and 03-44; adopted February 12, 2003 and released February 18, 2003. The full text of this Commission decision is available for inspection and copying during normal business hours in the FCC Reference Information Center (Room CY-A257), 445 12th Street, S.W., Washington, D.C. The complete text of this decision may also be purchased from the Commission's copy contractor, Qualex International, Portals II, 445 12th Street, S.W., Room CY-B402, Washington, D.C. 20554, telephone (202) 863-2893.

The Commission further requests comment on a petition filed by Gray Media Corporation proposing the allotment of Channel 258A at Rattan, Oklahoma, as the community's first local service. Channel 258A can be allotted to Rattan in compliance with the Commission's minimum distance separation requirements with a site restriction of 7.6 km (4.7 miles) south of Rattan. The coordinates for Channel 258A at Rattan are 34-07-58 North Latitude and 95-23-57 West Longitude.

The Commission further requests comment on a petition filed by Isabel Sepulveda, Inc. proposing the allotment of Channel 277A at Water Mill, New York, as the community's first local service. Channel 277A can be allotted to Water Mill in compliance with the Commission's minimum distance separation requirements without site restriction at center city reference coordinates. The coordinates for Channel 277A at Water Mill are 40-54-21 North Latitude and 72-21-45 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by adding Daisy, Channel 293C3.

3. Section 73.202(b), the Table of FM Allotments under Oklahoma, is amended by adding Rattan, Channel 258A.

3. Section 73.202(b), the Table of FM Allotments under New York, is amended by adding Water Mill, Channel 277A.

Federal Communications Commission.
John A. Karousos,
Assistant Chief, Audio Division, Media Bureau.

[FR Doc. 03-5335 Filed 3-5-03; 8:45 am]

BILLING CODE 6712-01-P